DEPARTMENT OF HOMELAND SECURITY

Federal Emergency Management Agency

[Docket ID FEMA-2018-0002; Internal Agency Docket No. FEMA-B-1840]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Alabama:
Mobile | City of Semmes (18-04-1945P) | The Honorable David Baker, Mayor, City of Semmes, P.O. Box 1757, Semmes, AL 36575 | City Hall, 7875 Moffett Road, Unit F, Semmes, AL 36575 | https://msc.fema.gov/portal/advanceSearch | Sept. 10, 2018 | 015016
Mobile | Unincorporated areas of Mobile County (18-04-1945P) | The Honorable Connie Hudson, Chair, Mobile County Board of Commissioners, 205 Government Street, Mobile, AL 36644 | Mobile County Engineering Department, 205 Government Street, Mobile, AL 36644 | https://msc.fema.gov/portal/advanceSearch | Sept. 10, 2018 | 015008
Colorado:
Arapahoe | City of Aurora (18-08-0169P) | The Honorable Steve Hogan, Mayor, City of Aurora, 15151 East Alameda Parkway, 5th Floor, Aurora, CO 80012 | Engineering Department, 15151 East Alameda Parkway, Suite 3200, Aurora, CO 80012 | https://msc.fema.gov/portal/advanceSearch | Sep. 17, 2018 | 080002
Arapahoe | City of Centennial (18-08-0169P) | The Honorable Stephanie Piko, Mayor, City of Centennial, 13133 East Arapahoe Road, Centennial, CO 80112 | Southeast Metro Stormwater Authority, 76 Inverness Drive East, Suite A, Englewood, CO 80112 | https://msc.fema.gov/portal/advanceSearch | Sep. 17, 2018 | 080315
Arapahoe | Unincorporated areas of Arapahoe County (18-08-0169P) | The Honorable Jeff Baker, Chairman, Arapahoe County Board of Commissioners, 5334 South Prince Street, Littleton, CO 80120 | Arapahoe County Public Works and Development Department, 6924 South Lima Street, Centennial, CO 80112 | https://msc.fema.gov/portal/advanceSearch | Sep. 17, 2018 | 080011
Boulder | City of Boulder (18-08-0166P) | The Honorable Suzanne Jones, Mayor, City of Boulder, P.O. Box 791, Boulder, CO 80306 | Planning and Development Services Department, 1739 Broadway, Boulder, CO 80302 | https://msc.fema.gov/portal/advanceSearch | Oct. 3, 2018 | 080024
Eagle | Town of Basalt (17-08-1316P) | Mr. Ryan Mahoney, Manager, Town of Basalt, 101 Midland Avenue, Basalt, CO 81621 | Town Hall, 101 Midland Avenue, Basalt, CO 81621 | https://msc.fema.gov/portal/advanceSearch | Sep. 28, 2018 | 080052
Eagle | Unincorporated areas of Eagle County (17-08-1316P) | The Honorable Kathy Chandler-Henry, Chair, Eagle County Board of Commissioners, P.O. Box 850, Eagle, CO 81631 | Eagle County Building and Engineering Department, 500 Broadway Street, Eagle, CO 81631 | https://msc.fema.gov/portal/advanceSearch | Sep. 28, 2018 | 080051
El Paso | Unincorporated areas of El Paso County (18-08-0013P) | The Honorable Darryl Glenn, President, El Paso County, Board of Commissioners, 200 South Cascade Avenue, Suite 100, Colorado Springs, CO 80903 | Pikes Peak Regional Building Department, 2880 International Circle, Colorado Springs, CO 80910 | https://msc.fema.gov/portal/advanceSearch | Oct. 3, 2018 | 080059
Jefferson | City of Westminster (18-08-0279P) | The Honorable Herb Atchison, Mayor, City of Westminster, 4800 West 92nd Avenue, Westminster, CO 80031 | Engineering Department, 4800 West 92nd Avenue, Westminster, CO 80031 | https://msc.fema.gov/portal/advanceSearch | Sep. 21, 2018 | 080008
Larimer | Town of Wellington (17-08-1283P) | The Honorable Troy Hamman, Mayor, Town of Wellington, P.O. Box 127, Wellington, CO 80549 | Town Hall, 3735 Cleveland Avenue, Wellington, CO 80549 | https://msc.fema.gov/portal/advanceSearch | Oct. 9, 2018 | 080008
Larimer | Unincorporated areas of Larimer County (17-08-1283P) | The Honorable Steve Johnson, Chairman, Larimer County Board of Commissioners, P.O. Box 1190, Fort Collins, CO 80522 | Larimer County Engineering Department, 200 West Oak Street, Suite 3000, Fort Collins, CO 80522 | https://msc.fema.gov/portal/advanceSearch | Oct. 9, 2018 | 080008
Pitkin | Unincorporated areas of Pitkin County (17-08-1316P) | The Honorable Patti Clapper, Chair, Pitkin County Board of Commissioners, 123 Emma Road, Suite 106, Basalt, CO 81621 | Pitkin County Building Community Development Department, 130 South Galena Street, 3rd Floor, Aspen, CO 81611 | https://msc.fema.gov/portal/advanceSearch | Sep. 28, 2018 | 080287
Florida:
Broward | City of Fort Lauderdale (18-04-3005P) | The Honorable Dean J. Trantalis, Mayor, City of Fort Lauderdale, 100 North Andrews Avenue, Fort Lauderdale, FL 33311 | Building Services Department, 700 Northwest 19th Avenue, Fort Lauderdale, FL 33311 | https://msc.fema.gov/portal/advanceSearch | Oct. 3, 2018 | 125105
Broward | Unincorporated areas of Broward County (18-04-3005P) | The Honorable Bertha Henry, Administrator, Broward County, 115 South Andrews Avenue, Fort Lauderdale, FL 33301 | Broward County Environmental Engineering and Permitting Division, 1 North University Drive, Plantation, FL 33324 | https://msc.fema.gov/portal/advanceSearch | Oct. 3, 2018 | 125093
Collier | City of Naples (18-04-2880P) | The Honorable Bill Barnett, Mayor, City of Naples, 735 8th Street South, Naples, FL 34102 | Building Department, 295 Riverside Circle, Naples, FL 34102 | https://msc.fema.gov/portal/advanceSearch | Sep. 19, 2018 | 125130
Collier | City of Naples (18-04-3246P) | The Honorable Bill Barnett, Mayor, City of Naples, 735 8th Street South, Naples, FL 34102 | Building Department, 295 Riverside Circle, Naples, FL 34102 | https://msc.fema.gov/portal/advanceSearch | Sep. 12, 2018 | 125130
Orange | Unincorporated areas of Orange County (17-04-3962P) | The Honorable Teresa Jacobs, Mayor, Orange County, 201 South Rosalind Avenue, 5th Floor, Orlando, FL 32801 | Orange County Stormwater Management Department, 4200 South John Young Parkway, Orlando, FL 32839 | https://msc.fema.gov/portal/advanceSearch | Oct. 4, 2018 | 120179
Osceola | Unincorporated areas of Osceola County (18-04-3037X) | The Honorable Fred Hawkins, Jr., Chairman, Osceola County Board of Commissioners, 1 Courthouse Square, Suite 4700, Kissimmee, FL 34741 | Osceola County Stormwater Department, 1 Courthouse Square, Suite 1400, Kissimmee, FL 34741 | https://msc.fema.gov/portal/advanceSearch | Sep. 28, 2018 | 120189
Pinellas | Town of Indian Shores (18-04-2638P) | The Honorable Patrick Soranno, Mayor, Town of Indian Shores, 19305 Gulf Boulevard, Indian Shores, FL 33785 | Building Department, 19305 Gulf Boulevard, Indian Shores, FL 33785 | https://msc.fema.gov/portal/advanceSearch | Sep. 17, 2018 | 125118
Sarasota | Unincorporated areas of Sarasota County (18-04-3583P) | The Honorable Nancy C. Detert, Chair, Sarasota County Board of Commissioners, 1660 Ringling Boulevard, Sarasota, FL 34236 | Sarasota County Planning and Development Services Department, 1001 Sarasota Center Boulevard, Sarasota, FL 34240 | https://msc.fema.gov/portal/advanceSearch | Oct. 1, 2018 | 125144
Georgia:
Catoosa | City of Fort Oglethorpe (18-04-2533P) | The Honorable Earl Gray, Mayor, City of Fort Oglethorpe, 500 City Hall Drive, Fort Oglethorpe, GA 30742 | Building, Planning and Zoning Department, 500 City Hall Drive, Fort Oglethorpe, GA 30742 | https://msc.fema.gov/portal/advanceSearch | Sep. 13, 2018 | 130248
Catoosa | Unincorporated areas of Catoosa County (18-04-2533P) | The Honorable Steven Henry, Chairman, Catoosa County Board of Commissioners, 800 Lafayette Street, Ringgold, GA 30736 | Catoosa County Planning and Inspections Department, 184 Tiger Trail, Ringgold, GA 30736 | https://msc.fema.gov/portal/advanceSearch | Sep. 13, 2018 | 130028
Kentucky: Hardin | City of Elizabethtown (18-04-2385P) | The Honorable Edna Berger, Mayor, City of Elizabethtown, P.O. Box 550, Elizabethtown, KY 42702 | Department of Stormwater Management, 200 West Dixie Avenue, Elizabethtown, KY 42702 | https://msc.fema.gov/portal/advanceSearch | Sep. 28, 2018 | 210095
Maryland: Baltimore | Unincorporated areas of Baltimore County (17-03-2477P) | The Honorable Kevin Kamenetz, Baltimore County Executive, 400 Washington Avenue, Towson, MD 21204 | Baltimore County Planning Department, 105 West Chesapeake Avenue, Suite 101, Towson, MD 21204 | https://msc.fema.gov/portal/advanceSearch | Sep. 19, 2018 | 240010
Mississippi:
Rankin | City of Brandon (18-04-0648P) | The Honorable Butch Lee, Mayor, City of Brandon, 1000 Municipal Drive, Brandon, MS 39042 | City Hall, 1000 Municipal Drive, Brandon, MS 39042 | https://msc.fema.gov/portal/advanceSearch | Sep. 14, 2018 | 280143
Rankin | City of Pearl (18-04-0648P) | The Honorable Jake Windham, Mayor, City of Pearl, 2420 Old Brandon Road, Pearl, MS 39208 | Community Development Department, 2420 Old Brandon Road, Pearl, MS 39208 | https://msc.fema.gov/portal/advanceSearch | Sep. 14, 2018 | 280145
New Hampshire: Cheshire | Town of Jaffrey (17-01-2389P) | Mr. Jon Frederick, Manager, Town of Jaffrey, 10 Goodnow Street, Jaffrey, NH 03452 | Town Hall, 10 Goodnow Street, Jaffrey, NH 03452 | https://msc.fema.gov/portal/advanceSearch | Sep. 28, 2018 | 330215
New Mexico:
Bernalillo | City of Albuquerque (18-06-0370P) | The Honorable Tim Keller, Mayor, City of Albuquerque, P.O. Box 1293, Albuquerque, NM 87103 | Development Review Services Division, 600 2nd Street Northwest, Albuquerque, NM 87102 | https://msc.fema.gov/portal/advanceSearch | Sep. 12, 2018 | 350002
Bernalillo | Unincorporated areas of Bernalillo County (18-06-0370P) | Ms. Julie Morgas Baca, Bernalillo County Manager, 1 Civic Plaza Northwest, Albuquerque, NM 87102 | Bernalillo County Public Works Division, 2400 Broadway Boulevard Southeast, Albuquerque, NM 87102 | https://msc.fema.gov/portal/advanceSearch | Sep. 12, 2018 | 350001
North Dakota: Cass | City of Fargo (17-08-1355P) | The Honorable Tim Mahoney, Mayor, City of Fargo, 200 3rd Street North, Fargo, ND 58102 | City Hall, 200 3rd Street North, Fargo, ND 58102 | https://msc.fema.gov/portal/advanceSearch | Sep. 18, 2018 | 385364
Ohio: Warren | City of Mason (17-05-6435P) | The Honorable Victor Kidd, Mayor, City of Mason, 6000 Mason Montgomery Road, Mason, OH 45040 | City Hall, 6000 Mason Montgomery Road, Mason, OH 45040 | https://msc.fema.gov/portal/advanceSearch | Sep. 10, 2018 | 390559
Rhode Island: Bristol | Town of Barrington (18-01-0572P) | Mr. James J. Cunha, Manager, Town of Barrington, 283 County Road, Barrington, RI 02806 | Town Hall, 283 County Road, Barrington, RI 02806 | https://msc.fema.gov/portal/advanceSearch | Sep. 6, 2018 | 445392
South Dakota:
Codington | City of Watertown (18-08-0263P) | The Honorable Sarah Caron, Mayor, City of Watertown, P.O. Box 910, Watertown, SD 57201 | Engineering Department, 23 2nd Street Northeast, Watertown, SD 57201 | https://msc.fema.gov/portal/advanceSearch | Sep. 28, 2018 | 460016
Codington | Unincorporated areas of Codington County (18-08-0263P) | The Honorable Myron Johnson, Chairman, Codington County Board of Commissioners, P.O. Box 910, Watertown, SD 57201 | Codington County Extension Complex-Zoning Office, 1910 West Kemp Avenue, Watertown, SD 57201 | https://msc.fema.gov/portal/advanceSearch | Sep. 28, 2018 | 460260
Minnehaha | City of Dell Rapids (17-08-1525P) | The Honorable Tom Earley, Mayor, City of Dell Rapids, P.O. Box 10, Dell Rapids, SD 57022 | City Hall, 302 East 4th Street, Dell Rapids, SD 57022 | https://msc.fema.gov/portal/advanceSearch | Oct. 1, 2018 | 460059
Minnehaha | Unincorporated areas of Minnehaha County (17-08-1525P) | The Honorable Cindy Heiberger, Chair, Minnehaha County, Board of Commissioners, 415 North Dakota Avenue, Sioux Falls, SD 57104 | Minnehaha County Planning and Zoning Department, 415 North Dakota Avenue, Sioux Falls, SD 57104 | https://msc.fema.gov/portal/advanceSearch | Oct. 1, 2018 | 460057
Texas:
Bexar | City of San Antonio (17-06-3172P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Sep. 17, 2018 | 480045
Bexar | City of San Antonio (18-06-0004P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Sep. 24, 2018 | 480045
Bexar | Unincorporated areas of Bexar County (18-06-0004P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Sep. 24, 2018 | 480035
Bexar | Unincorporated areas of Bexar County (18-06-0285P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Sep. 17, 2018 | 480035
Collin | City of Allen (18-06-0216P) | The Honorable Stephen Terrell, Mayor, City of Allen, 305 Century Parkway, Allen, TX 75013 | Engineering Department, 305 Century Parkway, Allen, TX 75013 | https://msc.fema.gov/portal/advanceSearch | Sep. 21, 2018 | 480131
El Paso | City of El Paso (17-06-3843P) | Mr. Tommy Gonzalez, Manager, City of El Paso, 300 North Campbell Street, El Paso, TX 79901 | City Hall, 801 Texas Avenue, El Paso, TX 79901 | https://msc.fema.gov/portal/advanceSearch | Sep. 24, 2018 | 480214
Harris | City of Houston (17-06-3450P) | The Honorable Sylvester Turner, Mayor, City of Houston, P.O. Box 1562, Houston, TX 77251 | Floodplain Management Department, 1002 Washington Avenue, 3rd Floor, Houston, TX 77002 | https://msc.fema.gov/portal/advanceSearch | Sep. 24, 2018 | 480296
Harris | City of Hunter's Creek Village (17-06-3450P) | The Honorable Jim Pappas, Mayor, City of Hunter's Creek Village, 1 Hunters Creek Place, Houston, TX 77024 | City Hall, 1 Hunters Creek Place, Houston, TX 77024 | https://msc.fema.gov/portal/advanceSearch | Sep. 24, 2018 | 480298
Hidalgo | Unincorporated areas of Hidalgo County (18-06-0700P) | The Honorable Ramon Garcia, Hidalgo County Judge, 100 East Cano Street, 2nd Floor, Edinburg, TX 78539 | Hidalgo County Drainage District No. 1, 902 North Doolittle Road, Edinburg, TX 78542 | https://msc.fema.gov/portal/advanceSearch | Oct. 5, 2018 | 480334
Tarrant | City of Fort Worth (17-06-4215P) | The Honorable Betsy Price, Mayor, City of Fort Worth, 200 Texas Street, Fort Worth, TX 76102 | Transportation and Public Works Department, 200 Texas Street, Fort Worth, TX 76102 | https://msc.fema.gov/portal/advanceSearch | Aug. 16, 2018 | 480596
Tarrant | City of Mansfield (17-06-4321P) | The Honorable David L. Cook, Mayor, City of Mansfield, 1200 East Broad Street, Mansfield, TX 76063 | City Hall, 1200 East Broad Street, Mansfield, TX 76063 | https://msc.fema.gov/portal/advanceSearch | Aug. 16, 2018 | 480606
Virginia:
Fauquier | Unincorporated areas of Fauquier County (17-03-1930P) | Mr. Paul S. McCulla, Fauquier County Administrator, 10 Hotel Street, Suite 204, Warrenton, VA 20186 | Fauquier County Zoning and Development Services Department, 29 Ashby Street, 3rd Floor, Warrenton, VA 20186 | https://msc.fema.gov/portal/advanceSearch | Sep. 20, 2018 | 510055
Loudoun | Unincorporated areas of Loudoun County (18-03-0512P) | Mr. Tim Hemstreet, Loudoun County Administrator, P.O. Box 7000, Leesburg, VA 20177 | Loudoun County Department of Development, 1 Harrison Street Southeast, Leesburg, VA 20175 | https://msc.fema.gov/portal/advanceSearch | Sep. 28, 2018 | 510090
Wyoming:
Laramie | City of Cheyenne (17-08-1565P) | The Honorable Marian J. Orr, Mayor, City of Cheyenne, 2101 O'Neil Avenue, Cheyenne, WY 82001 | Engineering Department, 2101 O'Neil Avenue, Cheyenne, WY 82001 | https://msc.fema.gov/portal/advanceSearch | Sep. 10, 2018 | 560030
Teton | Town of Jackson (18-08-0346P) | The Honorable Pete Muldoon, Mayor, Town of Jackson, P.O. Box 1687, Jackson, WY 83001 | Public Works Department, 450 West Snow King Avenue, Jackson, WY 83001 | https://msc.fema.gov/portal/advanceSearch | Sep. 13, 2018 | 560052
Teton | Unincorporated areas of Teton County (18-08-0346P) | The Honorable Mark Newcomb, Chairman, Teton County Board of Commissioners, P.O. Box 3594, Jackson, WY 83001 | Teton County Public Works Department, 320 South King Street, Jackson, WY 83001 | https://msc.fema.gov/portal/advanceSearch | Sep. 13, 2018 | 560094

[FR Doc. 2018-15213 Filed 7-16-18; 8:45 am]

BILLING CODE 9110-12-P